FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 24, 2019.

A. Federal Reserve Bank of Richmond (Adam M. Drimer, Assistant Vice President) 701 East Byrd Street, Richmond, Virginia 23219. Comments can also be sent electronically to Comments.applications@rich.frb.org:

1. Kenneth Ray Lehman, Arlington, Virginia; to acquire voting shares of Sevier County Bancshares, Inc., and thereby indirectly acquire shares of Sevier County Bank, both of Sevierville, Tennessee.

B. Federal Reserve Bank of Chicago (Colette A. Fried, Assistant Vice President) 230 South LaSalle Street, Chicago, Illinois 60690-1414:

1. Harold D. Westra Bank Stock Revocable Trust, Harold D. Westra Trustee, Rock Valley, Iowa; to join the Westra Family Control Group, as a group acting in concert to retain voting shares of Premier Holdings, Ltd., and thereby indirectly retain shares of Premier Bank, both of Rock Valley, Iowa.

Board of Governors of the Federal Reserve System, June 7, 2019.
Yao-Chin Chao,
Assistant Secretary of the Board.

[FR Doc. 2019-12384 Filed 6-11-19; 8:45 am]

BILLING CODE P